DEPARTMENT OF TRANSPORTATION

Federal Railroad Administration

49 CFR Part 229

[FRA Docket No. FRA 2000-8545; Notice No. 2]

RIN 2130—AB89

Locomotive Cab Sanitation Standards

AGENCY: Federal Railroad Administration (FRA), DOT.

ACTION: Notice of public hearing.

SUMMARY: By notice of proposed rulemaking (NPRM) published on January 2, 2001 (66 FR 136), FRA proposed safety standards for sanitation facilities for locomotive cab employees. This document announces a public hearing to give interested parties an opportunity to make comments on the record concerning the NPRM.

DATES: FRA will host a public hearing on April 2, 2001 at 2:00 p.m. Any interested party who desires to participate in the hearing must notify the Department of Transportation Central Docket Management Facility in writing on or before March 27, 2001. Written notification to the Docket Clerk must identify the docket number, and the participant's name, affiliation, and phone number.

ADDRESSES: Public Hearing: The public hearing will take place at the Omni Ambassador East, 1301 North State Parkway, Chicago, Illinois 60610 (312-787-7200).

Docket Clerk: Each notification must be submitted to the Department's Central Docket located in Room PL-401 at the Plaza level of the Nassif Building, 400 Seventh Street, SW., Washington, DC 20590. Docket hours at the Nassif Building are Monday-Friday, 10:00 a.m. to 5:00 p.m., excluding Federal holidays. Submissions may also be made via the Internet at http://dms.dot.gov.

FOR FURTHER INFORMATION CONTACT: Christine Beyer, Office of the Chief Counsel, 1120 Vermont Avenue, NW., Mail Stop 10, Washington, DC 20950 (telephone 202-493-6027); or Brenda Hattery, Office of Safety Assurance and Compliance, 1120 Vermont Avenue, NW., Mail Stop 25, Washington, DC 20590 (telephone: 202-493-6326).

SUPPLEMENTARY INFORMATION: FRA published its NPRM on locomotive cab sanitation standards on January 2, 2001 (66 FR 136). In the NPRM, FRA provided all interested parties the opportunity to request a public hearing, and the Brotherhood of Maintenance-of-Way Employes has requested a hearing.

FRA prepared the NPRM through consultations with the Railroad Safety Advisory Committee (RSAC). FRA established RSAC in 1996 to provide a forum for collaborative rulemaking and program development. RSAC includes representation from all of the agency's major customer groups, including railroad carriers, labor organizations, suppliers, manufacturers and other interested parties.

FRA presented the issue of locomotive cab working conditions to RSAC in June 1997, and RSAC agreed to take on the task of preparing recommendations for any rulemaking FRA promulgated on the subject of cab sanitation facilities. RSAC formed the Locomotive Cab Working Conditions Working Group (Working Group) to meet and discuss the nature and extent of the problem, and to recommend a course of action for the agency. The Working Group included representatives of the rail carriers, affected labor organizations, and manufacturers. FRA and the Working Group met extensively over a period of 3 years, and discussed the area of cab sanitation thoroughly. FRA's NPRM is based largely on the recommendations that the Working Group prepared, and FRA believes the input the Working Group provided greatly enhanced the quality of the product. FRA invited written comments on the NPRM from all interested parties, and looks forward to additional oral comments at the public hearing.

Public Hearing Procedures

The public hearing will be conducted on the record, with a stenographer present. Any interested party may make a statement for the record and offer suggestions for improving the proposed standards. Any person wishing to participate in the public hearing should notify the Docket Clerk by mail or via the Internet at the address provided in the ADDRESSES section above, on or before March 27, 2001. The notification should identify the participant's name, affiliation and phone number.

Issued in Washington, D.C., on February 28, 2001.
S. Mark Lindsey,
Acting Deputy Administrator.

[FR Doc. 01-5307 Filed 3-5-01; 8:45 am]

BILLING CODE 4910-06-P